DEPARTMENT OF DEFENSE

Department of the Air Force

Record of Decision for the Foreign Military Sales Pilot Training Center at Ebbing Air National Guard Base, Arkansas, Environmental Impact Statement

ACTION: Notice of Availability of Record of Decision.

SUMMARY: On March 11, 2022, the Department of the Air Force (DAF) signed the Record of Decision (ROD) for the Record of Decision for the Foreign Military Sales (FMS) Pilot Training Center at Ebbing Air National Guard (ANG) Base, Arkansas, Environmental Impact Statement.

ADDRESSES: Mr. David Martin, AFCEC/CZN, Building 1 Bay 8 Room 8009, 3515 S General McMullen, San Antonio TX 78226-1710, (210) 925-4266; david.martin.127@us.af.mil.

SUPPLEMENTARY INFORMATION: The DAF has selected to beddown 12 Royal Singapore Air Force F-16 aircraft and 24 F-35 FMS aircraft at Ebbing ANG Base, Arkansas.

The DAF decision documented in the ROD was based on matters discussed in the Final Environmental Impact Statement, inputs from the public and regulatory agencies, and other relevant factors. The Final Environmental Impact Statement was made available to the public on February 3, 2023, through a Notice of Availability in the Federal Register (Volume 88, Number 23, Page 7445) with a waiting period that ended on March 7, 2023.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2023-07742 Filed 4-12-23; 8:45 am]

BILLING CODE 5001-10-P